FEDERAL COMMUNICATIONS COMMISSION

[OMB 3060-1034; FR ID 281407]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

DATES: Written comments and recommendations for the proposed information collection should be submitted on or before March 28, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1034.

Title: Digital Audio Broadcasting Systems and their Impact on the Terrestrial Radio Broadcast Service; Form 2100, Schedule 335-FM—FM Digital Notification; Form 2100, Schedule 335-AM—AM Digital Notification.

Form Number: Form 2100, Schedule 335-FM.

Type of Review: Revision of a currently approved collection.

Respondents: Business or other for-profit entities.

Number of Respondents and Responses: 215 respondents; 215 responses.

Estimated Hours per Response: 1 hour-8 hours.

Frequency of Response: On occasion reporting requirement.

Total Annual Burden: 345 hours.

Total Annual Cost: $128,250.

Obligation to Respond: Required to obtain or retain benefits. The statutory authority for this collection of information is contained in sections 154(i), 303, 310, and 553 of the Communications Act of 1934, as amended.

Needs and Uses: On September 24, 2024, the Commission adopted the First Report and Order in the Modifying Rules for FM Terrestrial Digital Audio Broadcasting System, MB Docket No. 22-405, FCC 24-105 (FM Digital First R&O) proceeding, to allow digital FM station operation with asymmetric power on the digital sidebands. This asymmetric sideband operation will allow digital FM stations to operate with different power levels on the upper and lower digital sidebands, as a way to facilitate greater digital FM radio coverage without interfering with adjacent-channel FM stations, upon notification to the Commission on FCC Form 2100, Schedule 335-FM. Prior to adoption of the FM Digital First R&O, an FM digital station that wished to employ asymmetric sideband operation had to apply for an experimental authorization and renew that authorization annually. Initiating such operation by notification rather than experimental authorization will be simpler and less expensive to the licensee, and thus less burdensome. Additionally, eliminating the requirement of annual experimental authorization will remove a regulatory barrier and incentivize more digital FM stations to adopt such operations. This submission is therefore being made to OMB for approval of new or modified Information Collection requirements stemming from the FM Digital First R&O.

The changes as adopted in the FM Digital First R&O require modifications to Schedule 335-FM and rule sections 73.404 and 73.406. Specifically, the FM Digital First R&O permits digital FM stations to use asymmetric sideband operation by notifying the Commission using Schedule 335-FM, and modifies that schedule by including fields to report the digital ERP being transmitted on each digital sideband, as well as the total digital ERP. Therefore, Schedule 335-FM is being amended to provide fields for the notifying station to indicate the digital ERP transmitted on each digital sideband, as well as the total digital ERP.

The Commission also made an administrative change to the procedures used by FM station licensees seeking to increase digital power above −14 dBc. Those requests, previously submitted by “informal request,” will now be submitted using Schedule 335-FM. After the effective date of the rules adopted in the First Digital R&O, digital FM stations must use Schedule 335-FM to request an increase in total digital ERP above −14 dBc, using Table 1 to § 73.404(f), and will also report certain digital power decreases on Schedule 335-FM. In sum, after the effective date of the FM Digital First R&O, a digital FM station will report the following actions (or request authority in the case of an increase of total digital ERP above −14 dBc) by submitting Schedule 335-FM: the initiation of hybrid digital operation; the initiation of asymmetric sideband operation at any power level, as well as the discontinuance of asymmetric sideband operation; an increase of total digital ERP above −14 dBc; or a decrease in total digital ERP from a level above −14 dBc to a level at or below −14 dBc. As required with the current informal request process, a station choosing to operate with total digital ERP between −14 dBc and −10 dBc must attach an exhibit demonstrating that the proposed FM digital ERP is permitted for each digital sideband, using Table 1 to § 73.404(f). This exhibit will now be an attachment to the Schedule 335-FM submission. As is the case with the current informal request process, a digital FM station choosing to operate with total digital ERP above −14 dBc may initiate such operation upon approval from the Commission.

Schedule 335-FM is amended as follows:

a. To include a question for the notifying station to report when asymmetric sideband operations commenced.

b. To provide fields for the notifying station to indicate the digital ERP transmitted on each digital sideband, as well as the total digital ERP.

c. To include a question for the notifying station to report that it has discontinued digital broadcasts and/or asymmetric sideband operations, and provide the date of the discontinuance.

d. To include a question for the notifying station to report that the total digital ERP (listed in a previous item of the schedule) is greater than −14 dBc. A station choosing to operate with total digital ERP between −14 dBc and −10 dBc must attach an exhibit demonstrating that the proposed FM digital ERP is permitted for each digital sideband, using Table 1 in § 73.404(f).

e. To include a question for the notifying station to report a decrease in the total digital ERP to −14 dBc or below, and provide the date on which such decreased digital ERP operations commenced.

Moreover, to implement the new or modified information collection requirements contained in the FM Digital First R&O, sections 73.404(e) and (f) of the rules are revised to allow digital FM stations to use asymmetric power on the digital sidebands and to use the “Maximum permissible FM digital ERP per-sideband” Table to comport with the current limits on FM digital ERP. Additionally, the newly adopted digital FM notification requirements are added to rule section 73.406 in new paragraphs (d)(5) and (d)(6) as follows:

§ 73.406 Notification

(d)(5) Any digital FM station taking any of the following actions must notify the Commission of such action on Form 2100, Schedule 335-FM:

(i) Upon initiation of hybrid digital operation;

(ii) Upon initiation of asymmetric sideband operation at any power level. For FM stations employing asymmetric sideband operation as defined in § 73.402(i), the notification must include a certification that the proposed digital sideband power on each sideband conforms to the Maximum Permissible FM Digital ERP set forth in Table 1 to § 73.404(f), and that the total digital sideband power will not exceed the total power if the digital sideband operation were symmetric. The notifying station may commence asymmetric sideband operation upon filing Form 2100, Schedule 335-FM, and may continue such operation unless notified by the Commission that such operation is not rule-compliant;

(iii) Discontinuing asymmetric sideband operation and reverting to symmetric sideband operation. The digital FM station must file Form 2100, Schedule 335-FM within 30 days of discontinuing asymmetric sideband operation; or

(iv) Decreasing total digital Effective Radiated Power from a level above −14 dBc to a level at or below −14 dBc. The digital FM station must file Form 2100, Schedule 335-FM within 30 days of decreasing power.

(6) Any digital FM station seeking authority to increase total digital Effective Radiated Power above −14 dBc must submit Form 2100, Schedule 335-FM. The submission must include a certification that the proposed FM digital Effective Radiated Power is permitted, using the table set forth in Table 1 to § 73.404(f). Certifications must be based on the most restrictive analog field strength of the proponent at any nearby first-adjacent channel station's 60 dBμ contour. The station choosing to operate with total digital ERP above −14 dBc may initiate such operation upon approval from the Commission.

Federal Communications Commission.
Marlene Dortch,
Secretary, Office of the Secretary.

[FR Doc. 2025-03124 Filed 2-25-25; 8:45 am]

BILLING CODE 6712-01-P